DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Thursday and Friday, December 12 and 13, 2002, from 8:30 a.m. until 4:30 p.m. on both days, at The American Legion, Washington Office, 1608 K Street, NW., Washington, DC. The meeting is open to the public.

The purpose of the Committee is to review the post-way readjustment needs of veterans and to evaluate the availability and effectiveness of VA programs to meet these needs.

The agenda for December 12 will include a review of the Readjustment Counseling Service Vet Center program and an update on VA medical center treatment programs for post-traumatic stress disorder (PTSD). The Committee will also review the Veterans Health Initiative, a series of in-service training modules for specific veterans' health care programs. A best practices model of VA partnerships for serving homeless veterans will also be presented.

On December 13, the Committee will be provided with an update from the Veterans Benefits Administration on service-connected compensation for PTSD. The Committee will also focus on available information regarding the military-related service needs of returning combatants from the war on terrorism in Afghanistan, and a follow-up on the mental health needs of older veterans one year after the terrorist attacks in the United States.

The agenda for both days will also include strategic planning activities to formulate goals and objectives for the coming year. In addition, the Committee will formulate recommendations for submission to Congress in its annual report.

Those who plan to attend or have questions concerning the meeting may contact Mr. Charles M. Flora, M.S.W., Readjustment Counseling Service, Department of Veterans Affairs Central Office, at (202) 273-8969.

Dated: November 8, 2002.
By Direction of the Secretary.
Nora E. Egan,
Committee Management Officer.

[FR Doc. 02-28972 Filed 11-14-02; 8:45 am]

BILLING CODE 8320-01-M